ENVIRONMENTAL PROTECTION AGENCY

40 CFR Part 52

[FRL-6895-1]

Supplemental Information To Support Proposed Approvals of One-Hour Ozone Attainment Demonstrations for Serious Ozone Nonattainment Areas

AGENCY: Environmental Protection Agency (EPA).

ACTION: Notice of availability and extension of comment period.

SUMMARY: On October 16, 2000 (65 FR 61134), EPA published a notice of availability and reopening of comment period to provide the public with the opportunity to comment on a reasonably available control measures (RACM) analysis that EPA performed. This analysis was done for the following serious ozone nonattainment areas: Greater Connecticut, New York-New Jersey-Connecticut; Springfield, Massachusetts; Washington, DC-Virginia-Maryland; and Atlanta, Georgia. That action was taken to supplement the proposed rules that EPA took on those areas' State implementation plans (SIPs) on December 16, 1999 (Greater Connecticut (64 FR 70332); Springfield (64 FR 70319); Metropolitan Washington (64 FR 70460) and Atlanta (64 FR 70478). By this action, EPA is extending the comment period 15 additional days to give the public a total of 30 days to review this analysis and submit public comments to EPA.

DATES: The EPA is extending the comment period until November 15, 2001. All comments should be sent to the appropriate regional office as listed below by that date.

ADDRESSES: Written comments on the Greater Connecticut and Springfield SIPs should be sent (in duplicate if possible) to: David B. Conroy, EPA Region I (New England) Office, One Congress Street, Suite 1100-CAQ, Boston, Massachusetts 02114-2023. Copies of the Connecticut and Massachusetts State submittals and EPA's technical support document are available for public inspection during normal business hours at the following address: U.S. Environmental Protection Agency, Region 1 (New England), One Congress St., 11th Floor, Boston, Massachusetts, telephone (617) 918-1664. Please telephone in advance before visiting.

Written comments on the Washington, DC-Virginia-Maryland submittals should be submitted (in duplicate if possible) to: David L. Arnold, Chief, Ozone and Mobile Sources Branch, Mailcode 3AP21, U.S. Environmental Protection Agency, Region 3, 1650 Arch Street, Philadelphia, Pennsylvania 19103. Copies of the documents relevant to this action are available for public inspection during normal business hours at the following address: Air Protection Division, U.S. Environmental Protection Agency, Region III, 1650 Arch Street, Philadelphia, Pennsylvania 19103, and the docket numbers are DC039-2019, VA090-5036 and MD073-3045.

Written comments on the Atlanta SIP should be submitted (in duplicate if possible) to: Scott M. Martin, EPA Region 4, Air Planning Branch, 61 Forsyth Street, S.W., Atlanta, Georgia 30303. Copies of the State submittal are available at the following address for inspection during normal business hours: Environmental Protection Agency, Region 4, Air Planning Branch, 61 Forsyth Street, S.W., Atlanta, Georgia 30303-8960, and the docket number is GA-47-200002.

FOR FURTHER INFORMATION CONTACT: For general questions on the RACM analysis for mobile sources, contact Mr. Mark Simons at either 734-214-4420 or by e-mail simons.mark@epa.gov. For general questions on the RACM analysis for stationary sources, contact Mr. John Silvasi at either (919) 541-5666 or by e-mail silvasi.john@epa.gov. For specific questions on the Greater Connecticut and Springfield SIPs, contact Mr. Richard Burkhart at (617) 918-1664 or by e-mail burkhart.richard@epa.gov. For specific questions on the Washington, DC, SIP, contact Mr. David Arnold at (215) 814-2172 or by e-mail arnold.dave@epa.gov. For specific questions on the Atlanta SIP, contact Mr. Scott Martin at (404) 562-9036 or by e-mail martin.scott@epa.gov.

Dated: October 26, 2000.
John S. Seitz,
Director, Office of Air Quality Planning and Standards.

[FR Doc. 00-28166 Filed 11-1-00; 8:45 am]

BILLING CODE 6560-50-P